DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2014 National Survey on Drug Use and Health (OMB No. 0930-0110)—Revision

The National Survey on Drug Use and Health (NSDUH) is a survey of the U.S. civilian, non-institutionalized population aged 12 years old or older. The data are used to determine the prevalence of use of tobacco products, alcohol, illicit substances, and illicit use of prescription drugs. The results are used by SAMHSA, the Office of National Drug Control Policy (ONDCP), Federal government agencies, and other organizations and researchers to establish policy, direct program activities, and better allocate resources.

The introduction of a new sample design is planned for the 2014 NSDUH. In addition to moving towards a proportional allocation by state, the 2014 sample design places more sample in the 26 or older age groups than in previous designs to more accurately estimate drug use and related mental health measures among the aging drug use population. An additional stage of selection was also added to aid in the possible adoption of address-based sampling in the future. The questionnaire content for the 2014 NSDUH will remain identical to what was administered in 2013, with the exception of updates to year references and the State-specific Medicaid, Children's Health Insurance Program (CHIP), and Temporary Assistance for Needy Families (TANF) program names. Making minimal changes to the instrument will allow SAMHSA's Center for Behavioral Health Statistics and Quality (CBHSQ) to isolate the effects of the revised sample design in the 2014 NSDUH and to prepare for the 2015 NSDUH redesign.

As with all NSDUH/NHSDA ¹ surveys conducted since 1999, the sample size of the survey for 2014 will be sufficient to permit prevalence estimates for each of the fifty States and the District of Columbia. The total annual burden estimate is shown in Table 1.

¹ Prior to 2002, the NSDUH was referred to as the National Household Survey on Drug Abuse (NHSDA).

Table 1—Annualized Estimated Respondent Burden for 2014 NSDUH
Instrument | Number of respondents | Responses per respondent | Total number of responses | Hours per response | Total burden hours
Household Screening | 119,181 | 1 | 119,181 | 0.083 | 9,892
Interview | 67,507 | 1 | 67,507 | 1.000 | 67,507
Screening Verification | 3,575 | 1 | 3,575 | 0.067 | 240
Interview Verification | 10,126 | 1 | 10,126 | 0.067 | 678
Total | 119,181 |  | 119,181 |  | 78,317

Send comments to Summer King, SAMHSA Reports Clearance Officer, Room 2-1057, One Choke Cherry Road, Rockville, MD 20857 or email her a copy at summer.king@samhsa.hhs.gov. Written comments should be received by June 24, 2013.

Summer King,
Statistician.

[FR Doc. 2013-09425 Filed 4-22-13; 8:45 am]

BILLING CODE 4162-20-P